DEPARTMENT OF TRANSPORATION

Federal Highway Administration

Notice of Final Federal Agency Actions on the I-10 Calcasieu River Bridge Improvements (I-10/I-210 West End to I-10/I-210 East End), Calcasieu Parish, Louisiana

AGENCY: Federal Highway Administration (FHWA), Department of Transportation (DOT).

ACTION: Notice of limitation on claims for judicial review of actions by FHWA and other Federal agencies.

SUMMARY: This notice announces actions taken by FHWA and other Federal agencies that are final. The actions relate to the I-10 Calcasieu River Bridge Improvements (I-10/I-210 West End to I-10/I-210 East End), Calcasieu Parish, Louisiana.

DATES: By this notice, FHWA is advising the public of final agency actions subject to 23 U.S.C. 139(l)(1). A claim seeking judicial review of the Federal agency actions on the highway project will be barred unless the claim is filed on or before July 8, 2024. If the Federal law that authorizes judicial review of a claim provides a time period of less than 150 days for filing such claim, then that shorter time period still applies.

FOR FURTHER INFORMATION CONTACT: Melinda Roberson, Division Administrator, Louisiana Division, Federal Highway Administration, 5304 Flanders Drive, Suite A; Baton Rouge, Louisiana 70808; Telephone (225) 757-7600.

SUPPLEMENTARY INFORMATION: Notice is hereby given that FHWA and other Federal Agencies have taken final Agency actions by issuing approvals for the I-10 Calcasieu River Bridge Improvements (I-10/I-210 West End to I-10/I-210 East End), Calcasieu Parish, Louisiana. The project will replace the 72 year-old Calcasieu River Bridge and improve I-10 between the I-10/I-210 west and I-10/I-210 east interchanges in Calcasieu Parish, Louisiana. The project length is approximately nine miles and includes the interstate roadways and ramps, the bridge approaches, interchanges, the I-10 service roads, and connecting state and local roads. The purpose of the project is to address the lack of system continuity on I-10 and along Sampson Street; reduce congestion and improve mobility on I-10 and along Sampson Street; address structural and functional roadway and bridge deficiencies; and address safety concerns on I-10 and the Calcasieu River Bridge. The needs that are addressed by this project include accommodating existing traffic and future traffic growth, enhancing trip reliability, reducing bottleneck at the bridge, providing improved geometric and structural design, and replacing aging infrastructure.

The actions by the Federal Agencies, and the laws under which such actions were taken, are described in the FHWA Combined Final Environmental Impact Statement (FEIS) and Record of Decision (ROD) for the project, signed and issued on 1/30/24, for the project, and in other project documents in the FHWA administrative record. The Combined FEIS and ROD, and other documents in the FHWA administrative record files are available by contacting FHWA, using the contact information provided above, or online at the project's website at https://i10lakecharles.com/.

This notice applies to the FHWA Agency decision as of the issuance date of this notice and all laws under which such actions were taken, including but not limited to:

1. General: National Environmental Policy Act (NEPA) [42 U.S.C. 4321- 4351]; Federal-Aid Highway Act [23 U.S.C. 109 and 23 U.S.C. 128].

2. Air: Clean Air Act [42 U.S.C. 7401-7671(q)].

3. Noise: Noise Control Act of 1972 [42 U.S.C. 4901-4918]; 23 CFR part 772.

4. Land: Section 4(f) of the Department of Transportation Act of 1966 [49 U.S.C. 303].

5. Wildlife: Endangered Species Act (ESA) [16 U.S.C. 1531-1544 and section 1536]; Fish and Wildlife Coordination Act [16 U.S.C. 661-667d]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013].

7. Social and Economic: Civil Rights Act of 1964 [42 U.S.C. 2000(d)- 2000(d)(1)]; American Indian Religious Freedom Act [42 U.S.C. 1996]; Farmland Protection Policy Act (FPPA) [7 U.S.C. 4201-4209].

8. Wetlands and Water Resources: Coastal Zone Management Act [16 U.S.C. 1451-1465]; Land and Water Conservation Fund (LWCF) [16 U.S.C. 4601-4604]; Safe Drinking Water Act (SDWA) [42 U.S.C. 300(f)-300(j)(6)]; Wild and Scenic Rivers Act [16 U.S.C. 1271- 1287]; Flood Disaster Protection Act [42 U.S.C. 4001-4128].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13045 Protection of Children From Environmental Health Risks and Safety Risks; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Melinda Roberson,
Division Administrator, Federal Highway Administration.

[FR Doc. 2024-02405 Filed 2-6-24; 8:45 am]

BILLING CODE 4910-22-P